DEPARTMENT OF THE INTERIOR

Bureau of Land Management

[BLM_NV_FRN_MO 4500178788]

Notice of Availability of the Final Environmental Impact Statement for the Bald Mountain Mine Plan of Operations Amendment, Juniper Project, White Pine County, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) Ely District, Bristlecone Field Office (BFO), Nevada announces the availability of the Final Environmental Impact Statement (EIS) for the Bald Mountain Mine Plan of Operations Amendment (Juniper Project) in White Pine County, Nevada.

DATES: The BLM will not issue a decision on the proposal for a minimum of 30 days after the date that the Environmental Protection Agency (EPA) publishes its Notice of Availability (NOA) in the Federal Register. The EPA usually publishes its NOAs on Fridays.

ADDRESSES: The Final EIS is available for review on the BLM ePlanning project website at https://go.usa.gov/xAm2g.

Written comments related to the Bald Mountain Mine Juniper Project may be submitted by any of the following methods:

• ePlanning Website: https://go.usa.gov/xAm2g.

• Email: blm_nv_eydo_juniper_eis@blm.gov.

• Mail: BLM Bristlecone Field Office, ATTN: BMM EIS Project, 702 North Industrial Way, Ely, Nevada 89301.

Documents pertinent to this proposal may be examined online at the ePlanning website and at the Bristlecone Field Office.

FOR FURTHER INFORMATION CONTACT: Greg Gresh, Planning and Environmental Specialist, telephone 775-289-1809; address 702 North Industrial Way, Ely, Nevada 89301; email ggresh@blm.gov. Individuals in the United States who are deaf, blind, hard of hearing, or have a speech disability may dial 711 (TTY, TDD, or TeleBraille) to access telecommunications relay services for contacting Mr. Gresh. Individuals outside the United States should use the relay services offered within their country to make international calls to the point-of-contact in the United States.

SUPPLEMENTARY INFORMATION: KG Mining (Bald Mountain) Inc. (KG-BM) owns and operates the Bald Mountain Mine (BMM), a large-scale, open-pit gold mine primarily on public lands administered by the BLM Bristlecone Field Office. The BMM is in northwestern White Pine County, Nevada, approximately 60 miles southeast of the city of Elko, Nevada and 60 miles northwest of Ely, Nevada. The BMM operates on patented and unpatented Federal mining claims owned, leased, or otherwise controlled by KG-BM. The BMM has been in continuous operation for more than 40 years; therefore, mine areas and facilities are in various stages of development, operation, and reclamation. The BMM is subdivided into two plan of operation areas, which consist of the North Operations Area (NOA) and South Operations Area. KG-BM is proposing to amend its plan of operations for the NOA (NOA Plan) to enable continued mining, processing, exploration, and reclamation of the open pit mining operations and to reestablish underground mining.

Purpose and Need for the Proposed Action

BLM

The BLM's purpose for this Federal action is to evaluate and respond to KG-BM's proposed amendment to the NOA Plan in accordance with all applicable laws, regulations, and policies. The need for the action is established by the BLM's responsibility under FLPMA, the Mining Law of 1872, the BLM's Surface Management Regulations (43 Code of Federal Regulations [CFR] 3809), and its Use and Occupancy Regulations (43 CFR 3715) to respond to KG-BM's proposal, while preventing unnecessary or undue degradation of public land.

USFWS

As a cooperating agency for this EIS, the U.S. Fish and Wildlife's (USFWS) purpose for this Federal action is to evaluate and respond to KG-BM's proposed nest removal and incidental take permit application in accordance with applicable laws, regulations, and policies. The USFWS's need for this action is established by the USFWS's responsibility under the Bald and Golden Eagle Protection Act to respond to KG-BM's request for a nest removal and incidental take permit authorization, while maintaining stable or increasing breeding populations in all eagle management units and the persistence of local populations throughout their geographic range.

BLM Proposed Action and Alternatives

Proposed Action

KG-BM's proposed NOA Plan Amendment, referred to as the Juniper Project, would develop, expand, modify, reconfigure, reclassify, realign, or eliminate select mine components or portions thereof in the NOA. Specifically, this action involves the expansion or modification (i.e., pit floor elevation change, backfill) of 7 authorized open pits (Redbird, Rat, Top, Poker Flats, Bida, Saga, and Winrock South), the development of the Royale and South Duke Pits, the development of 3 rock disposal areas (RDAs) (Royale, South Duke RDA 2, and Bida), the modification of 13 authorized RDAs, and the elimination of a portion of the authorized but not yet constructed Poker Flats RDA. Modification or development is proposed for heap leach facilities, haul roads, interpit areas, process areas, ancillary areas, and support facilities (infrastructure).

Other aspects of the Juniper Project include conducting planned concurrent reclamation activities, implementing a growth media stockpile management program, applying a road design strategy to select haul roads, creating haul road placement zones for three haul roads, reestablishing the Top Pit underground mine, creating a sequencing and backfill schedule for the Poker Flats Pit, increasing the height of the Poker Flats heap, and reusing spent heap leach ore. Proposed non-surface disturbing activities involve administrative actions such as renaming authorized mine components or recategorizing authorized surface disturbance. The Juniper Project would extend the authorized NOA Plan boundary in five areas totaling 3,425 acres. Life-of-mine surface disturbance in the NOA would increase from 10,782 acres to 14,752 acres, resulting in a net surface disturbance increase of approximately 3,969 acres. Mine life would extend for an additional 11 years.

Alternative A (Agency Preferred)

Alternative A, the agency preferred alternative, was developed to address refinements to two designated mule deer migration corridors through the western portion of the NOA. Under Alternative A, some of the surface disturbance described in the Proposed Action would not be developed, some of the authorized but not constructed disturbance would be canceled, some partial pit backfilling would occur, and some of the existing surface disturbance would undergo concurrent reclamation. The Alternative A design modifications were developed in coordination with the Nevada Department of Wildlife and are intended to improve mule deer migration through the NOA and reduce energy expenditure of migrating mule deer compared to the Proposed Action. Alternative A would remove 6.9 acres of proposed new surface disturbance and 10.5 acres of authorized surface disturbance that would not be constructed, resulting in a 17.4-acre reduction in comparison with the Proposed Action. The total proposed surface disturbance under Alternative A would be about 14,735 acres. Alternative A is the same as the Proposed Action in all other respects.

No-Action Alternative

Under the No-Action Alternative, the BLM would not authorize the proposed NOA Plan Amendment (Juniper Project). The Juniper Project would not be developed, and KG-BM would continue its construction, operations, closure, reclamation, and post-mining monitoring activities within the authorized NOA Plan boundary under the terms, permits, and approvals as authorized by the BLM and State of Nevada. Operations in the NOA would continue for 7 years after the disapproval of the Juniper Project.

USFWS Proposed Action and Alternatives

The decision for the eagle take permit is independent of the BLM's decision of whether to authorize the Juniper Project.

Proposed Action

Under the Eagle Conservation Plan Proposed Action, the USFWS would authorize the removal of up to 5 nests and up to 15 incidents of take resulting from disturbance to breeding territories for up to 19 years as requested by KG-BM. Under this alternative, KG-BM would be required to implement nest protection buffers to ensure it does not exceed its take authorization of 15 disturbance incidents. Under the Eagle Conservation Permit Proposed Action, KG-BM would provide the compensatory mitigation as required by regulations to ensure that effects of take caused by KG-BM are offset at the population level. Additional mitigation for nest removals would also be required.

USFWS Preferred Alternative

Under the USFWS Preferred Alternative, the USFWS would issue a permit with increased take authorizations and experimental compensatory mitigation measures. Under this alternative, the USFWS would authorize up to 27 incidents of eagle take from disturbance, consistent with the USFWS risk assessment, for a period of up to 30 years to allow for take coverage to extend into the mine closure and final reclamation phases. As required by regulation, KG-BM would provide compensatory mitigation for authorized take and additional mitigation for nest removals. Under this alternative, KG-BM would have increased flexibility to implement its mining activities without potentially needing to alter mining operation or exploration plans.

USFWS No-Action Alternative

Under the USFWS No-Action Alternative, the USFWS would not issue an incidental take permit for golden eagles to KG-BM. For purposes of analyzing the USFWS No-Action Alternative, the USFWS assumes that KG-BM would implement all measures required by other agencies and jurisdictions to conduct the proposed Juniper Project, but the conservation measures proposed in the eagle incidental take permit application package would not be required. KG-BM may choose to implement some, none, or all of those conservation measures.

Schedule for the Decision-Making Process

The final EIS is tentatively scheduled to be published on May 24, 2024, with a Record of Decision on or after July 8, 2024.

Draft EIS Comment Response

The BLM received a total of 376 comment submittals during the public comment period, which included 69 unique submittals, 300 copies of one form letter in support of the Juniper Project, 6 copies of a second form letter in support of the Juniper Project, and one duplicate comment. Following statements of general support or opposition, the greatest number of comment excerpts were associated with special status species, especially Greater Sage-Grouse; water quality and quantity; wildlife and fisheries resources; golden eagles; and monitoring and mitigation. Comments on the draft EIS received from the public, cooperating agencies, and internal BLM review were considered and incorporated, as appropriate, into the Final EIS.

Robbie J. McAboy,
District Manager, Ely District Office.

[FR Doc. 2024-11501 Filed 5-23-24; 8:45 am]

BILLING CODE 4331-21-P